DEPARTMENT OF AGRICULTURE

Submission for OMB Review; Comment Request

June 18, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Special Needs Request Under the Plant Protection Act.

OMB Control Number: 0579-0291.

Summary of Collection: The Plant Protection Act (PPA) (7 U.S.C. 7701 et. seq.) gives authority to the Secretary of Agriculture to prohibit or restrict the importation, entry, exportation, or movement in interstate commerce of any plant, plant product, biological control organism, noxious weed, article, or means of conveyance if the Secretary determines that the prohibition or restriction is necessary to prevent the introduction of plant pests or noxious weed into the United States. The Animal and Plant Health Inspection Service (APHIS) amended its domestic quarantine regulations to establish a process by which a State or political subdivision of a State could request approval to impose prohibitions or restrictions on the movement in interstate commerce of specific articles that are in addition to the prohibitions and restrictions imposed by APHIS. 7 CFR 301.1 through 301.1-3, “Subpart-Special Need Request” APHIS sets out procedures for the criteria, action, and submission of a special need request.

Need and Use of the Information: APHIS believes that specific information, which would be considered along with more general information available to APHIS, would be necessary for the Administrator to be able to determine whether to grant or deny a request for a special need exemption. The administrator's determination would be based upon his or her review of the information submitted by the State or political subdivision in support of its request and would take into account any comments received.

Description of Respondents: State, Local or Tribal Government.

Number of Respondents: 10.

Frequency of Responses: Reporting: On occasion.

Total Burden Hours: 1,600.

Animal and Plant Health Inspection Service

Title: PPQ Form 816; Contract Pilot and Aircraft Acceptance.

OMB Control Number: 0579-0298.

Summary of Collection: The Plant Protection Act (7 U.S.C. 7701 et. seq.) directs the Secretary of Agriculture to carry out a program, subject to available funds, to control grasshoppers and Mormon crickets on all Federal lands to protect rangeland. The Animal and Plant Health Inspection Service (APHIS) carries out this program primarily by treating infested lands by aerial spraying of pesticides from aircraft.

Need and Use of the Information: Contract Pilot and Aircraft Acceptance Form (PPQ-816) is used by the Plant Protection and Quarantine personnel who are involved with contracts for aerial application services for emergency pest outbreaks. The form is used to document that the pilot and aircraft meet contract specifications.

Description of Respondents: Individuals or households.

Number of Respondents: 15.

Frequency of Responses: Reporting: On occasion.

Total Burden Hours: 4.

Ruth Brown,
Departmental Information Collection Clearance Officer.

[FR Doc. E9-14774 Filed 6-23-09; 8:45 am]

BILLING CODE 3410-34-P